ENVIRONMENTAL PROTECTION AGENCY

[FRL-10009-32-ORD]

EPA Board of Scientific Counselors; Notice of Charter Renewal

AGENCY: Environmental Protection Agency (EPA).

ACTION: Notice of charter renewal.

Notice is hereby given that the Environmental Protection Agency (EPA) has determined that, in accordance with the provisions of the Federal Advisory Committee Act (FACA), 5 U.S.C. App. 2, the EPA Board of Scientific Counselors (BOSC) is in the public interest and is necessary in connection with the performance of EPA's duties. Accordingly, the BOSC will be renewed for an additional two-year period. The purpose of the BOSC is to provide advice and recommendations to the Administrator regarding science and engineering research, programs and plans, laboratories, and research management practices. Inquiries may be directed to Tom Tracy, U.S. EPA, (Mail Code 8104R), 1200 Pennsylvania Avenue NW, Washington, DC 20460, telephone (202) 564-6518, or tracy.tom@epa.gov.

Dated: May 1, 2020.
Mary Ross,
Director, Office of Science Advisor, Policy, and Engagement.

[FR Doc. 2020-09875 Filed 5-7-20; 8:45 am]

BILLING CODE 6560-50-P